DEPARTMENT OF THE INTERIOR

Fish and Wildlife Service

[FWS-R4-ES-2015-N148; FXES1130400000C2-156-FF04E00000]

Endangered and Threatened Wildlife and Plants; Final Recovery Plan for Dusky Gopher Frog

AGENCY: Fish and Wildlife Service, Interior.

ACTION: Notice of availability.

SUMMARY: We, the Fish and Wildlife Service (Service), announce the availability of the final recovery plan for the endangered dusky gopher frog. The recovery plan includes specific recovery objectives and criteria that must be met in order for us to downlist the frog to threatened status under the Endangered Species Act of 1973, as amended.

ADDRESSES: You may obtain a copy of the recovery plan from our Web site at http://www.fws.gov/endangered/species/recovery-plans.html. You may also request a copy of the recovery plan by contacting Linda LaClaire at the Mississippi Field Office, by U.S. mail at U.S. Fish and Wildlife Service, Mississippi Field Office, 6578 Dogwood View Pkwy, Jackson, MS 39213 (telephone 601-321-1126).

FOR FURTHER INFORMATION CONTACT: Linda LaClaire (see ADDRESSES, above).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer needed under any criteria specified in section 4(a)(1) of the Act. To help guide the recovery effort, we prepare recovery plans for most listed species. Recovery plans describe actions considered necessary for conservation of the species, establish criteria for downlisting or delisting, and estimate time and cost for implementing recovery measures. The Act requires the development of recovery plans for listed species, unless such a plan would not promote the conservation of a particular species.

The Service listed the Mississippi gopher frog (Rana capito sevosa) under the Act, as an endangered distinct vertebrate population segment (DPS) of the gopher frog (Rana capito) on December 4, 2001 (66 FR 62993). On June 12, 2012, we published a final rule (77 FR 35118) designating critical habitat for this listed entity, changing its status to “species,” and changing its name to dusky gopher frog (Rana sevosa) based on taxonomic changes and the acceptance of these changes by the herpetological scientific community. The frog's current distribution is restricted to the State of Mississippi. At the time of listing, only one population of the species was known. Subsequently, two other naturally occurring populations were discovered. One additional dusky gopher frog population has been established in Mississippi as a result of translocation experiments. Presently, we estimate that a minimum of 135 individual adult frogs survive in the wild, the vast majority of which occur in the original population known at the time of listing.

Principal threats to the dusky gopher frog include degradation and destruction of breeding and nonbreeding habitat, habitat fragmentation, and alteration of hydrological patterns due to urbanization and climate change. Additional threats include the restricted range of the dusky gopher frog, its small number of populations, and disease. All these factors act to increase the vulnerability of the species to a single catastrophic event and to the deleterious effects of genetic inbreeding.

Recovery Plan

Section 4(f) of the Act requires us to provide public notice and an opportunity for public review and comment prior to final approval of recovery plans. We and other Federal agencies will take these comments into account in the course of implementing approved recovery plans.

The Technical/Agency Draft Recovery Plan for the Dusky Gopher Frog was developed by the Dusky Gopher Frog Recovery Team and our Mississippi Field Office. This draft plan was published on September 10, 2014, and made available for public comment through November 10, 2014 (79 FR 53728).

We received public comments on our draft recovery plan and incorporated them into the final plan, as appropriate. We also considered the information we received from peer reviewers in our preparation and approval of this final recovery plan.

Recovery Plan Components

The Service's recovery objectives are to work to reduce threats so that the dusky gopher frog may be downlisted to threatened status. Defining reasonable delisting criteria is not possible at this time, given the current low number of populations and individuals, lack of information about the species' biology, and magnitude of threats. Therefore, this recovery plan only establishes downlisting criteria for the dusky gopher frog.

Downlisting of the dusky gopher frog will be considered when:

1. Six viable metapopulations* are documented within blocks of recovery focus areas (described in Section II of the recovery plan) and are widely distributed across the range of the species. The six metapopulations would include a minimum of 12 breeding ponds and would be distributed as follows:

a. One metapopulation in Block #1 (Louisiana: Portions of St. Tammany, Tangipahoa, and Washington Parishes, west to the Tangipahoa River);

b. Two metapopulations each in Block #2 (South-Central Mississippi: North of State Hwy. 26, between the Pearl and Pascagoula Rivers; Forrest County and portions of Lamar, Pearl River, Perry, and Stone Counties) and Block #3 (South Mississippi: South of Hwy. 26, between the Pearl and Pascagoula Rivers; Hancock and Harrison Counties, and portions of Jackson, George, Pearl River, and Stone Counties); and

c. One metapopulation in either Block #4 (Eastern Mississippi: East of Pascagoula/Leaf Rivers; portions of George, Greene, Jackson, and Wayne Counties) or Block #5 (Alabama: West of the Mobile River Delta; Mobile and Washington Counties, small portion of Choctaw County).

2. Long-term monitoring (at least 10 years) of each metapopulation is able to document population viability (viability standard to be defined through a recovery task). The 10-year timeframe will allow monitoring of recruitment events and other population attributes in a species that has been characterized by highly variable reproductive and survival rates. In each of at least two annual breeding events within a 3-year period, a total of 30 egg masses per metapopulation must be documented and recruitment must be verified.

3. Breeding and adjacent upland habitats within the six metapopulations are protected long term through management agreements, public ownership, or other means, in sufficient quantity and quality (to be determined by recovery task) to support growing populations.

4. Studies of the dusky gopher frog's biological and ecological requirements are completed, and any required recovery measures discovered during these studies are developed and implemented.

* Information defining what constitutes a viable metapopulation can be found in the Service's final recovery plan.

Authority

The authority for this action is section 4(f) of the Endangered Species Act, 16 U.S.C. 1533 (f).

Dated: July 24, 2015.
Cynthia K. Dohner,
Regional Director, Southeast Region.

[FR Doc. 2015-22733 Filed 9-8-15; 8:45 am]

BILLING CODE 4310-55-P